DEPARTMENT OF TRANSPORTATION

Federal Aviation Administration

14 CFR Part 71

[Docket No. FAA-2023-2493; Airspace Docket No. 23-AGL-25]

RIN 2120-AA66

Amendment of Jet Route J-89 and VOR Federal Airway V-161, and Establishment of Canadian RNAV Route Q-834; Northcentral United States

AGENCY: Federal Aviation Administration (FAA), DOT.

ACTION: Final rule.

SUMMARY: This action amends Jet Route J-89 and Very High Frequency Omnidirectional Range (VOR) Federal Airway V-161 and establishes Canadian Area Navigation (RNAV) Route Q-834 in United States (U.S.) airspace. The FAA is taking this action due to the planned decommissioning of the Winnipeg, Manitoba (MB), Canada, VOR/Tactical Air Navigation (VORTAC) navigational aid (NAVAID). This action is in support of NAV CANADA's NAVAID Modernization Program.

DATES: Effective date 0901 UTC, September 5, 2024. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11H, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the Air Traffic Service (ATS) route structure as necessary to preserve the safe and efficient flow of air traffic within the National Airspace System.

History

The FAA published a notice of proposed rulemaking for Docket No. FAA-2023-2493 in the Federal Register (89 FR 1851; January 11, 2024), proposing to amend Jet Route J-89 and VOR Federal Airway V-161, and establish Canadian RNAV Routes Q-834 and T-765 in U.S. airspace due to the planned decommissioning of the Winnipeg, MB, Canada, VORTAC NAVAID in support of NAV CANADA's NAVAID Modernization Program. Interested parties were invited to participate in this rulemaking effort by submitting written comments on the proposal.

One non-substantive comment, outside the scope of this action, was received.

Difference From the NPRM

Prior to publishing the NPRM for this action, the FAA published a NPRM for Docket No. FAA-2023-2326 in the Federal Register (88 FR 85519; December 8, 2023) which also proposed to establish two Canadian RNAV Route T-765 segments in U.S. airspace. That proposed action was being taken due to NAV CANADA's planned decommissioning of the Thunder Bay, Ontario, Canada, VOR. The proposed new T-765 route segments in that action were to mitigate the removal of the affected VOR Federal Airway V-133 segments; whereas the proposed T-765 routes segments in this action were proposed to mitigate the removal of the VOR Federal Airway V-161 segments affected by the planned decommissioning of the Winnipeg, MB, Canada, VORTAC. Both actions would provide route continuity and cross border connectivity with the T-765 route segments being established by NAV CANADA within Canadian airspace.

The FAA has decided to establish all Canadian RNAV Route T-765 route segments in a single docket action and selected Docket No. FAA-2023-2326 to accomplish that. Therefore, the proposed T-765 route segments being established by this action are removed and will be incorporated in the final rule for Docket No. FAA-2023-2326 accordingly. This rule only amends Jet Route J-89 and VOR Federal Airway V-161, and establishes Canadian RNAV Route Q-834 in U.S. airspace.

Incorporation by Reference

Jet Routes are published in paragraph 2004, Canadian Area Navigation Routes (Q-routes) are published in paragraph 2007, and VOR Federal Airways are published in paragraph 6010(a) of FAA Order JO 7400.11, Airspace Designations and Reporting Points, which is incorporated by reference in 14 CFR 71.1 on an annual basis. This document amends the current version of that order, FAA Order JO 7400.11H, dated August 11, 2023, and effective September 15, 2023. FAA Order JO 7400.11H is publicly available as listed in the ADDRESSES section of this document. These amendments will be published in the next update to FAA Order JO 7400.11.

FAA Order JO 7400.11H lists Class A, B, C, D, and E airspace areas, air traffic service routes, and reporting points.

The Rule

This action amends 14 CFR part 71 by amending Jet Route J-89 and VOR Federal Airway V-161, and by establishing Canadian RNAV Route Q-834 in U.S. airspace. This action is necessary due to the planned decommissioning of the Winnipeg, MB, Canada, VORTAC in support of NAV CANADA's NAVAID Modernization Program. The ATS route actions are described below.

J-89: Prior to this final rule, J-89 extended between the Louisville, KY, VORTAC and the Winnipeg, MB, Canada, VORTAC, excluding the airspace within Canada. The route segment between the Duluth, MN, VORTAC and the Winnipeg VORTAC is removed. As amended, the route is changed to now extend between the Louisville VORTAC and the Duluth VORTAC.

Q-834: Q-834 is a new Canadian RNAV route established within U.S. airspace extending between the Duluth, MN, VORTAC and the ALBNG, MN, waypoint (WP) that replaces the “CFHBZ” Computer Navigation Fix (CNF) on the U.S./Canada border. The new RNAV route mitigates the J-89 route segment removal and provides route continuity and cross-border connectivity with the Q-834 route being established by NAV CANADA within Canadian airspace between the ALBNG WP and the Winnipeg, MB, Canada, area.

V-161: Prior to this final rule, V-161 extended between the Three Rivers, TX, VORTAC and the Tulsa, OK, VORTAC; between the Butler, MO, VORTAC and the Gopher, MN, VORTAC; and between the International Falls, MN, VOR/Distance Measuring Equipment (VOR/DME) and the Winnipeg, MB, Canada, VORTAC, excluding the airspace within Canada. The airway segment between the International Falls VOR/DME and the Winnipeg VORTAC is removed. As amended, the airway is changed to now extend between the Three Rivers VORTAC and the Tulsa VORTAC, and between the Butler VORTAC and the Gopher VORTAC.

The NAVAID radials listed in the VOR Federal Airway V-161 description in the regulatory text of this final rule are unchanged and stated in degrees True north.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11H, Airspace Designations and Reporting Points, dated August 11, 2023, and effective September 15, 2023, is amended as follows:

Paragraph 2004 Jet Routes.

* * * * *

J-89 [Amended]

From Louisville, KY; Boiler, IN; Northbrook, IL; Badger, WI; to Duluth, MN.

* * * * *

Paragraph 2007 Canadian Area Navigation Routes.

* * * * *

Q-834 Duluth, MN (DLH) to ALBNG, MN [New]
Duluth, MN (DLH) | VORTAC | (Lat. 46°48′07.79″ N, long. 092°12′10.33″ W)
ALBNG, MN | WP | (Lat. 48°59′58.05″ N, long. 095°38′10.41″ W)

* * * * *

Paragraph 6010(a) VOR Federal Airways.

* * * * *

V-161 [Amended]

From Three Rivers, TX; Center Point, TX; Llano, TX; INT Llano 026° and Millsap, TX, 193° radials; Millsap; Bowie, TX; Ardmore, OK; Okmulgee, OK; to Tulsa, OK. From Butler, MO; Napoleon, MO; Lamoni, IA; Des Moines, IA; Mason City, IA; Rochester, MN; Farmington, MN; to Gopher, MN.

* * * * *

Issued in Washington, DC, on June 11, 2024.
Frank Lias,
Manager, Rules and Regulations Group.

[FR Doc. 2024-13209 Filed 6-17-24; 8:45 am]

BILLING CODE 4910-13-P